DEPARTMENT OF THE INTERIOR

Bureau of Indian Affairs

Final Environmental Impact Statement for the Menominee Indian Tribe of Wisconsin's Proposed Fee-to-Trust Transfer and Casino-Hotel Project in the City of Kenosha, Kenosha County, WI

AGENCY: Bureau of Indian Affairs, Interior.

ACTION: Notice of Availability.

SUMMARY: This notice advises the public that the Bureau of Indian Affairs (BIA) as the lead Federal agency, with the Menominee Indian Tribe of Wisconsin (Tribe), the National Indian Gaming Commission (NIGC), the City of Kenosha, and Kenosha County, as cooperating agencies, has prepared a Final Environmental Impact Statement (FEIS) for the proposed approval of a 223-acre fee-to-trust transfer and the construction of a casino-hotel complex. This notice also announces the FEIS is now available for public review. Hard copies are available upon request or may be found at the addresses indicted in the SUPPLEMENTARY INFORMATION section below.

DATES: The Record of Decision on the proposed action will be issued no sooner than 30 days after the release of the FEIS. Thus, any comments on the FEIS must arrive at the addresses indicated below by July 30, 2012.

ADDRESSES: You may request a copy of the FEIS, by contacting Scott Doig, Regional Environmental Protection Specialist, Midwest Region, Bureau of Indian Affairs, 5600 West American Boulevard, Suite 500, Bloomington, Minnesota 55437, telephone (612) 725-4514, fax (612) 713-4401.

FOR FURTHER INFORMATION CONTACT: Scott Doig, Regional Environmental Protection Specialist, Midwest Region, Bureau of Indian Affairs, 5600 West American Boulevard, Suite 500, Bloomington, Minnesota 55437, telephone (612) 725-4514, fax (612) 713-4401.

SUPPLEMENTARY INFORMATION: The Tribe has asked the BIA to take 223 acres of land into trust on behalf of the Tribe, on which the Tribe proposes to develop a casino-hotel complex. The proposed project is located at the site of the existing Dairyland Greyhound Park, at 5522-104th Ave., Kenosha, Wisconsin 53144. The property is approximately one half mile east of Interstate 94, and approximately 35 miles south of Milwaukee, Wisconsin. The BIA serves as lead agency for compliance with the National Environmental Policy Act. The Tribe, the NIGC, the City of Kenosha, and Kenosha County, as entities having jurisdiction and special expertise relevant to potentially affected resources, are acting as cooperating agencies.

The project design includes taking the 223-acre Dairyland Greyhound Park property into trust for the Tribe, and the development of a casino-hotel complex, while potentially retaining the current greyhound racetrack, structure, concourse and kennel facilities. Future development includes a water park, a second hotel, and a recreational vehicle park. Interim Class III gaming would be conducted inside the existing clubhouse until the new casino is built. The FEIS considers a range of project alternatives, including: (1) Preferred casino-hotel complex; (2) reduced intensity; (3) off-site expansion of existing Keshena facilities; (4) hotel-conference center/recreational development; and (5) no action. Environmental issues addressed in the FEIS include land and water resources, air quality, biological resources, cultural and paleontological resources, socioeconomic conditions, transportation and circulation, land use, public services, noise, hazardous materials, visual resources, environmental justice, cumulative effects, indirect effects and mitigation.

The BIA has afforded other government agencies and the public opportunity to participate in the preparation of this FEIS. The BIA published a Notice of Intent to prepare a Draft Environmental Impact Statement (DEIS) for the proposed action in the Federal Register on June 23, 2004 (69 FR 35058), with a correction published on July 7, 2004 (69 FR 40966). The BIA held a public scoping meeting on August 3, 2004, in Kenosha, WI. A Notice of Availability for the DEIS was published in the Federal Register on September 23, 2005 (70 FR 55835). The document was available for public comment from September 23, 2005, to November 21, 2005, and a public hearing was held on October 25, 2005, in Pleasant Prairie, WI. An extended comment period for the DEIS was announced in the Federal Register on February 3, 2006 (71 FR 5837). The document was available for public comment from February 3, 2006, to March 6, 2006. Applicable information including population and traffic densities were updated in the preliminary FEIS and completed in January 2012.

Locations where the FEIS is Available for Review: The FEIS will be available for review at the following branches of the Kenosha Public Library: Simmons, 711 59th Place, Kenosha, WI 53140; Southwest, 7979 38th Avenue, Kenosha, WI 53142; Northside, 1500 27th Avenue, Kenosha, WI 53140; Uptown, 2419 63rd Street, Kenosha, WI 53143. General information for the Kenosha Public Library system can be obtained by calling (262) 564-6100. The FEIS will also be available for review at the Waukegan Public Library, 128 North County Street, Waukegan, IL 60085. General information for the Waukegan Public Library can be obtained by calling (847) 623-2041. An electronic version of the FEIS can be viewed at the following Web site: http://www.kenoshaeis.com

Public Availability of Comments: Before including your address, phone number, email address, or other personal identifying information in your comment, you should be aware that your entire comment—including your personal identifying information—may be made publicly available at any time. While you can ask us in your comment to withhold your personal identifying information from public review, we cannot guarantee that we will be able to do so.

Authority: This notice is published pursuant to Sec. 1503.1 of the Council of Environmental Quality Regulations (40 CFR part 1500 through 1508) and Sec. 46.305 of the Department of Interior Regulations (43 CFR part 46), implementing the procedural requirements of the National Environmental Policy Act of 1969, as amended (42 U.S.C. 4371 et seq.), and is in the exercise of authority delegated to the Assistant Secretary—Indian Affairs by 209 DM 8.

Dated: May 31, 2012.
Donald E. Laverdure,
Acting Assistant Secretary—Indian Affairs.

[FR Doc. 2012-15878 Filed 6-28-12; 8:45 am]

BILLING CODE 4310-W7-P